NATIONAL SCIENCE FOUNDATION

Sunshine Act Meetings

The National Science Board's (NSB) NSB-NSF Commission on Merit Review hereby gives notice of the scheduling of a videoconference meeting for the transaction of National Science Board business pursuant to the National Science Foundation Act and the Government in the Sunshine Act.

TIME AND DATE: Monday, August 14, 2023, from 9:00 a.m.-12:00 p.m. EDT.

PLACE: This meeting will be held in person and by videoconference through the National Science Foundation headquarters at 2415 Eisenhower Ave., Alexandria, VA 22314.

STATUS: One portion open and one portion closed.

MATTERS TO BE CONSIDERED:

Open: 9:00-10:30 a.m. Matter to be considered—Panel presentation and discussion, “Federal Agency Perspectives on Grant Review Processes”.

Closed: 10:30 a.m.-12:00 p.m. Matters to be considered—Chairman's opening remarks regarding the agenda; and discussion of topical areas of inquiry.

CONTACT PERSON FOR MORE INFORMATION: Point of contact for this meeting is: (Chris Blair, cblair@nsf.gov), 703/292-7000. Members of the public can observe the public portion of this meeting through a YouTube livestream. The YouTube link will be available from the NSB web page.

Christopher Blair,
Executive Assistant to the National Science Board Office.

[FR Doc. 2023-17351 Filed 8-9-23; 11:15 am]

BILLING CODE 7555-01-P